INTERNATIONAL TRADE COMMISSION

[Investigation No. 337-TA-589]

In the Matter of Certain Switches and Products Containing Same; Notice of Commission Decision Not To Review an Initial Determination Granting Complainant's Motion To Amend the Complaint and Notice of Investigation

AGENCY: U.S. International Trade Commission.

ACTION: Notice.

SUMMARY: Notice is hereby given that the U.S. International Trade Commission has determined not to review an initial determination (“ID”) (Order No. 4) issued by the presiding administrative law judge (“ALJ”) granting complainant's consent motion to amend the complaint and notice of investigation.

FOR FURTHER INFORMATION CONTACT: Michelle Walters, Office of the General Counsel, U.S. International Trade Commission, 500 E Street, SW., Washington, DC 20436, telephone (202) 708-5468. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: This investigation was instituted on December 7, 2006, based on a complaint filed by ATEN International Co., Ltd. of Taipei, Taiwan, and ATEN Technology, Inc. of Irvine, California (collectively, “ATEN”). 71 FR 70983. The complaint alleges violations of section 337 of the Tariff Act of 1930 (19 U.S.C. 1337) in the importation into the United States, the sale for importation, and the sale within the United States after importation of certain switches and products containing the same by reason of infringement of various claims of United States Patent No. 7,035,112. The complaint named six respondents: Belkin Corp. of Compton, California; Belkin Logistics, Inc. of Compton, California; Emine Technology Co., Ltd. of Taipei, Taiwan; JustCom Tech, Inc. of San Jose, California; RATOC Systems, Inc. of Osaka, Japan; and RATOC Systems International, Inc. of Santa Clara, California.

On February 9, 2007, ATEN moved to amend the complaint and notice of investigation in order to reflect corporate name changes of two respondents. Specifically, ATEN sought to change Belkin Corp. and Belkin Logistics, Inc. to Belkin International, Inc. and Belkin, Inc., respectively. Respondents consented to ATEN's motion.

On February 20, 2007, the ALJ issued an ID (Order No. 4) granting ATEN's motion to amend the complaint and notice of investigation. No petitions for review were filed.

Having examined the record of this investigation, the Commission has determined not to review the ALJ's ID.

The authority for the Commission's determination is contained in section 337 of the Tariff Act of 1930, as amended (19 U.S.C. 1337), and in section 210.42 of the Commission's Rules of Practice and Procedure (19 CFR 210.42).

By order of the Commission.
Issued: March 15, 2007.
Marilyn R. Abbott,
Secretary to the Commission.

[FR Doc. E7-5044 Filed 3-19-07; 8:45 am]

BILLING CODE 7020-02-P